NATIONAL AERONAUTICS AND SPACE ADMINISTRATION

[Notice (03-040)]

Aerospace Safety Advisory Panel (ASAP); Meeting

AGENCY: National Aeronautics and Space Administration, (NASA).

ACTION: Notice of meeting.

SUMMARY: In accordance with the Federal Advisory Committee Act, Public Law 92-463, as amended, the National Aeronautics and Space Administration announces a forthcoming meeting of the Aerospace Safety Advisory Panel.

DATES: Friday, April 11, 2003, 1 p.m. to 2 p.m. Eastern Time.

ADDRESSES: National Aeronautics and Space Administration Headquarters, 300 E Street, SW., Room 5H46A, Washington, DC 20546.

FOR FURTHER INFORMATION CONTACT: Mr. Leonard B. Sirota, Executive Director, Aerospace Safety Advisory Panel, Code Q-1, National Aeronautics and Space Administration, Washington, DC 20546, 202/358-0914.

SUPPLEMENTARY INFORMATION: This meeting will be conducted via telecon with Panel members and consultants. This meeting will be open to the public up to the seating capacity of the room (45). The Aerospace Safety Advisory Panel is performing an evaluation of the safety of operating the International Space Station with only two crewmembers instead of the standard three while the Space Shuttle is non-operational. The reason for the short notification is that the evaluation must be completed in a timely manner to allow the National Aeronautics and Space Administration and its Russian partners two weeks to take any needed actions prior to the scheduled Soyuz launch on April 26, 2003.

The agenda for the meeting is as follows: To discuss the safety of operating the International Space Station with only two crewmembers instead of the standard three while the Space Shuttle is non-operational.

It is imperative that the meeting be held on this date to accommodate the scheduled Soyuz launch on April 26, 2003. Visitors will be requested to sign a visitor's register and asked to comply with NASA security requirements, including the presentation of a valid picture ID before receiving an access badge. Foreign Nationals attending this meeting will be required to provide the following information: Full name; gender; date/place of birth; citizenship; Green card/via information (number, type, expiration date); passport information (number, country, expiration date); employer/affiliation information (name of institution, address, country, phone); and title/position of visitor. To expedite admittance, attendees can provide identifying information in advance by contacting Ms. Susan Burch via e-mail at susan.m.burch@nasa.gov or by telephone at (202) 358-0914.

June W. Edwards,
Advisory Committee Management Officer, National Aeronautics and Space Administration.

[FR Doc. 03-8857 Filed 4-10-03; 8:45 am]

BILLING CODE 7510-01-P